DEPARTMENT OF COMMERCE

International Trade Administration

[C-533-905, C-523-817, C-542-805, C-549-845, C-489-847]

Certain Steel Nails From India, the Sultanate of Oman, Sri Lanka, Thailand, and the Republic of Turkey: Initiation of Countervailing Duty Investigations

AGENCY: Enforcement and Compliance, International Trade Administration, Department of Commerce.

DATES: Applicable January 19, 2022.

FOR FURTHER INFORMATION CONTACT: Genevieve Coen (India); Thomas Martin (the Sultanate of Oman); Nathan James (Sri Lanka); Charles Doss (Thailand); or Benjamin Luberda (the Republic of Turkey), AD/CVD Operations, Enforcement and Compliance, International Trade Administration, U.S. Department of Commerce, 1401 Constitution Avenue NW, Washington, DC 20230; telephone: (202) 482-3251; (202) 482-3936; (202) 482-5305; (202) 482-4474; or (202) 482-2185, respectively.

SUPPLEMENTARY INFORMATION:

Petitions

On December 30, 2021, the U.S. Department of Commerce (Commerce) received countervailing duty (CVD) petitions concerning imports of certain steel nails (steel nails) from India, the Sultanate of Oman (Oman), Sri Lanka, Thailand, and the Republic of Turkey (Turkey), filed in proper form on behalf of Mid Continent Steel & Wire, Inc. (the petitioner), a domestic producer of steel nails.¹ The Petitions were accompanied by antidumping duty (AD) petitions concerning imports of steel nails from India, Sri Lanka, Thailand, and Turkey.²

¹ See Petitioner's Letter, “Petitions for the Imposition of Antidumping and Countervailing Duties Pursuant to Sections 701 and 731 of the Tariff Act of 1930, as Amended, on Behalf of Mid Continent Steel & Wire, Inc.,” dated December 30, 2021 (Petitions).

² Id.

Between January 4 and 18, 2022, Commerce requested supplemental information pertaining to certain aspects of the Petitions.³ The petitioner filed responses to these requests between January 10 and 19, 2022.⁴

³ See Commerce's Letters, “Supplemental Questions,” dated January 4, 2022 (General Issues Questionnaire); “Petition for the Imposition of Countervailing Duties on Imports of Certain Steel Nails from India: Supplemental Questions,” dated January 4, 2022; “Petition for the Imposition of Countervailing Duties on Imports of Certain Steel Nails from Sri Lanka: Supplemental Questions,” dated January 4, 2022; “Petition for the Imposition of Countervailing Duties on Imports of Certain Steel Nails from the Republic of Turkey: Supplemental Questions,” dated January 4, 2022; “Petition for the Imposition of Countervailing Duties on Imports of Certain Steel Nails from Oman: Supplemental Questions,” dated January 5, 2022; “Petition for the Imposition of Countervailing Duties on Imports of Certain Steel Nails from Thailand: Supplemental Questions,” dated January 5, 2022; “Phone Call with Counsel to the Petitioner,” dated January 7, 2022 (First Scope Call Memorandum); “Petition for the Imposition of Countervailing Duties on Imports of Certain Steel Nails from Thailand: Second Supplemental Questionnaire,” dated January 7, 2022; “Petition for the Imposition of Countervailing Duties on Imports of Certain Steel Nails from the Republic of Turkey: Supplemental Questions,” dated January 10, 2022; “Petition for the Imposition of Countervailing Duties on Imports of Certain Steel Nails from Sri Lanka: Additional Supplemental Questions,” January 12, 2022; “Petition for the Imposition of Countervailing Duties on Imports of Certain Steel Nails from Thailand: Third Supplemental Questionnaire,” dated January 12, 2022; “Phone Call with Counsel to the Petitioner,” dated January 13, 2022 (Second Scope Call Memorandum); and “Petition for the Imposition of Countervailing Duties on Imports of Certain Steel Nails from the Republic of Turkey: Supplemental Questions,” dated January 18, 2022.

⁴ See Petitioner's Letters, “Response to Supplemental Questions for the Petition for the Imposition of Antidumping and Countervailing Duties on Imports of Certain Steel Nails from India, Oman, Sri Lanka, Thailand, and Turkey,” dated January 10, 2022 (First General Issues Supplement); “Response to Supplemental Questions—the Petition for the Imposition of Countervailing Duties on Imports of Certain Steel Nails from India,” dated January 10, 2022; “Response to Supplemental Questions—the Petition for the Imposition of Countervailing Duties on Imports of Certain Steel Nails from Turkey,” dated January 10, 2022; “Response to Supplemental Questions—the Petition for the Imposition of Countervailing Duties on Imports of Certain Steel Nails from Thailand,” dated January 10, 2022; “Response to Second Supplemental Questions—the Petition for the Imposition of Countervailing Duties on Imports of Certain Steel Nails from Thailand,” dated January 11, 2022; “Response to Third Supplemental Questionnaire—the Petition for the Imposition of Countervailing Duties on Imports of Certain Steel Nails from Thailand,” dated January 13, 2022; “Response to Second Supplemental Questionnaire—the Petition for the Imposition of Countervailing Duties on Imports of Certain Steel Nails from Turkey,” dated January 13, 2022; “Response to Scope Questions for the Petition for the Imposition of Antidumping and Countervailing Duties on Imports of Certain Steel Nails from India, Oman, Sri Lanka, Thailand, and Turkey,” dated January 14, 2022 (Scope Supplement); “Response to Second Supplemental Questionnaire—the Petition for the Imposition of Countervailing Duties on Imports of Certain Steel Nails from Sri Lanka,” dated January 14, 2022; and “Response to Third Supplemental Questions—the Petition for the Imposition of Countervailing Duties on Imports of Certain Steel Nails from Turkey,” dated January 19, 2022.

In accordance with section 702(b)(1) of the Tariff Act of 1930, as amended (the Act), the petitioner alleges that the Government of India (GOI), the Government of Oman (GSO), the Government of Sri Lanka (GSL), the Royal Thai Government (RTG), and the Government of Turkey (GOT) (collectively, Governments) are providing countervailable subsidies, within the meaning of sections 701 and 771(5) of the Act, to producers of steel nails in India, Oman, Sri Lanka, Thailand, and Turkey, and that such imports are materially injuring, or threatening material injury to, the domestic industry producing steel nails in the United States. Consistent with section 702(b)(1) of the Act and 19 CFR 351.202(b), for those alleged programs on which we are initiating CVD investigations, the Petitions were accompanied by information reasonably available to the petitioner supporting its allegations.

Commerce finds that the petitioner filed the Petitions on behalf of the domestic industry because the petitioner is an interested party, as defined in section 771(9)(C) of the Act. Commerce also finds that the petitioner demonstrated sufficient industry support with respect to the initiation of the requested CVD investigations.⁵

⁵ See “Determination of Industry Support for the Petitions” section, infra.

Period of Investigation

Because the Petitions were filed on December 30, 2021, the period of investigation (POI) for these CVD investigations is January 1, 2020, through December 31, 2020.⁶

⁶ See 19 CFR 351.204(b)(2).

Scope of the Investigations

The merchandise covered by these investigations is steel nails from India, Oman, Sri Lanka, Thailand, and Turkey. For a full description of the scope of these investigations, see the appendix to this notice.

Comments on Scope of the Investigations

On January 4, 7, and 13, 2022, Commerce requested further information from the petitioner regarding the proposed scope, to ensure that the scope language in the Petitions is an accurate reflection of the products for which the domestic industry is seeking relief.⁷ On January 10 and 14, 2022, the petitioner revised the scope.⁸ The description of the merchandise covered by these investigations, as described in the appendix to this notice, reflects these clarifications.

⁷ See General Issues Questionnaire; see also First Scope Call Memorandum; and Second Scope Call Memorandum.

⁸ See General Issues Supplement at Exhibit GEN-21; see also Scope Supplement at Exhibit GEN-24.

As discussed in the Preamble to Commerce's regulations, we are setting aside a period for interested parties to raise issues regarding product coverage (scope).⁹ Commerce will consider all comments received from interested parties and, if necessary, will consult with interested parties prior to the issuance of the preliminary determinations. If scope comments include factual information,¹⁰ all such factual information should be limited to public information. To facilitate preparation of its questionnaires, Commerce requests that all interested parties submit scope comments by 5:00 p.m. Eastern Time (ET) on February 8, 2022, which is 20 calendar days from the signature date of this notice. Any rebuttal comments, which may include factual information, must be filed by 5:00 p.m. ET on February 18, 2022, which is 10 calendar days from the initial comment deadline.

⁹ See Antidumping Duties; Countervailing Duties; Final Rule, 62 FR 27323 (May 19, 1997) (Preamble).

¹⁰ See 19 CFR 351.102(b)(21) (defining “factual information”).

Commerce requests that any factual information the parties consider relevant to the scope of the investigations be submitted during this time period. However, if a party subsequently finds that additional factual information pertaining to the scope of the investigations may be relevant, the party may contact Commerce and request permission to submit the additional information. All such comments must be filed on the records of each of the concurrent AD and CVD investigations.

Filing Requirements

All submissions to Commerce must be filed electronically using Enforcement and Compliance's Antidumping Duty and Countervailing Duty Centralized Electronic Service System (ACCESS), unless an exception applies.¹¹ An electronically filed document must be received successfully in its entirety by the time and date it is due.

¹¹ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the Governments of the receipt of the Petitions and provided an opportunity for consultations with respect to the Petitions.¹² Commerce held consultations with the RTG on January 11, 2022, the GOT, GSL, and GSO on January 14, 2022, and the GOI on January 18, 2022.¹³

¹² See Commerce's Letters, “Countervailing Duty Petition on Certain Steel Nails from Sri Lanka; Invitation for Consultations to Discuss the Countervailing Duty Petition,” dated January 4, 2022; “Countervailing Duty Petition on Certain Steel Nails from the Republic of Turkey; Invitation for Consultations to Discuss the Countervailing Duty Petition,” dated January 4, 2022; “Countervailing Duty Petition on Certain Steel Nails from India; Invitation for Consultations to Discuss the Countervailing Duty Petition,” dated January 5, 2022; “Countervailing Duty Petition on Certain Steel Nails from Thailand,” dated January 5, 2022; and “Countervailing Duty Petition on Certain Steel Nails from the Sultanate of Oman: Invitation for Consultations to Discuss the Countervailing Duty Petition,” dated January 10, 2022.

¹³ See Memoranda, “Petition for the Imposition of Countervailing Duties on Imports of Certain Steel Nails from Thailand: Teleconference Consultations with the Royal Thai Government,” dated January 12, 2022; “Countervailing Duty Petition on Certain Steel Nails from the Sultanate of Oman: Consultations with Officials from the Government of the Sultanate of Oman,” dated January 14, 2022; “Certain Steel Nails from Turkey: Government of Turkey Consultations,” dated January 14, 2022; “Consultations with the Government of Sri Lanka on the Countervailing Duty Petition Regarding Certain Steel Nails from Sri Lanka,” dated January 14, 2022; and “Petition for the Imposition of Countervailing Duties on Imports of Certain Steel Nails from India: Consultations with Officials from the Government of India,” dated January 18, 2022.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.¹⁶ Based on our analysis of the information submitted on the record, we have determined that steel nails, as defined in the scope, constitute a single domestic like product, and we have analyzed industry support in terms of that domestic like product.¹⁷

¹⁶ See Petitions at Volume I at 13-15 and Exhibit GEN-3; see also General Issues Supplement at 7-10.

¹⁷ For a discussion of the domestic like product analysis as applied to these cases and information regarding industry support, see Countervailing Duty Investigation Initiation Checklists: Certain Steel Nails from India, the Sultanate of Oman, Sri Lanka, Thailand, and the Republic of Turkey (Country-Specific CVD Initiation Checklists) at Attachment II, Analysis of Industry Support for the Antidumping and Countervailing Duty Petitions Covering Certain Steel Nails from India, the Sultanate of Oman, Sri Lanka, Thailand, and the Republic of Turkey (Attachment II). These checklists are dated concurrently with this notice and on file electronically via ACCESS.

In determining whether the petitioner has standing under section 702(c)(4)(A) of the Act, we considered the industry support data contained in the Petitions with reference to the domestic like product as defined in the “Scope of the Investigations,” in the appendix to this notice. To establish industry support, the petitioner provided the 2020 production of the domestic like product for the U.S. producers that support the Petitions.¹⁸ The petitioner estimated the production of the domestic like product for the remaining U.S. producers of steel nails based on its knowledge of the industry and production capabilities and market shares of U.S. producers.¹⁹ The petitioner then compared the total production of the supporters of the Petitions to the estimated total production of the domestic like product for the entire domestic industry.²⁰ We relied on data provided by the petitioner for purposes of measuring industry support.²¹

¹⁸ See Petitions at Volume I at 3-4 and Exhibit GEN-1.

¹⁹ Id.; see also General Issues Supplement at 6.

²⁰ See Petitions at Volume I at 3-4 and Exhibit GEN-1.

²¹ Id.; see also General Issues Supplement at 6. For further discussion, see Attachment II of the Country-Specific CVD Initiation Checklists.

Our review of the data provided in the Petitions, the General Issues Supplement, and other information readily available to Commerce indicates that the petitioner has established industry support for the Petitions.²² First, the Petitions established support from domestic producers (or workers) accounting for more than 50 percent of the total production of the domestic like product and, as a result, Commerce is not required to take further action in order to evaluate industry support (e.g., polling).²³ Second, the domestic producers (or workers) have met the statutory criteria for industry support under section 702(c)(4)(A)(i) of the Act because the domestic producers (or workers) who support the Petitions account for at least 25 percent of the total production of the domestic like product.²⁴ Finally, the domestic producers (or workers) have met the statutory criteria for industry support under section 702(c)(4)(A)(ii) of the Act because the domestic producers (or workers) who support the Petitions account for more than 50 percent of the production of the domestic like product produced by that portion of the industry expressing support for, or opposition to, the Petitions.²⁵ Accordingly, Commerce determines that the Petitions were filed on behalf of the domestic industry within the meaning of section 702(b)(1) of the Act.²⁶

²² See Attachment II of the Country-Specific CVD Initiation Checklists.

²³ Id.; see also section 702(c)(4)(D) of the Act.

²⁴ See Attachment II of the Country-Specific CVD Initiation Checklists.

²⁵ Id.

²⁶ Id.

Injury Test

Because India, Oman, Sri Lanka, Thailand, and Turkey are “Subsidies Agreement Countries” within the meaning of section 701(b) of the Act, section 701(a)(2) of the Act applies to these investigations. Accordingly, the ITC must determine whether imports of the subject merchandise from India, Oman, Sri Lanka, Thailand, and/or Turkey materially injure, or threaten material injury to, a U.S. industry.

Allegations and Evidence of Material Injury and Causation

The petitioner alleges that imports of the subject merchandise are benefitting from countervailable subsidies and that such imports are causing, or threaten to cause, material injury to the U.S. industry producing the domestic like product. In addition, the petitioner alleges that subject imports exceed the negligibility threshold provided for under section 771(24)(A) of the Act.²⁷

²⁷ See Petitions at 17-19 and Exhibit GEN-9.

In CVD petitions, section 771(24)(B) of the Act provides that imports of subject merchandise from developing countries must exceed the negligibility threshold of four percent. Because Sri Lanka has been designated as a developing country under section 771(36)(A) of the Act,²⁸ the four percent negligibility threshold applies to imports from Sri Lanka. While the allegedly subsidized imports from Sri Lanka may not meet the statutory negligibility threshold of four percent,²⁹ the petitioner alleges and provides supporting evidence that: (1) There is a reasonable indication that data obtained in the ITC's investigation will establish that imports exceed the negligibility threshold; ³⁰ and (2) there is the potential that imports from Sri Lanka will imminently exceed the negligibility threshold and, therefore, they are not negligible for purposes of a threat determination.³¹ The petitioner's arguments regarding the reasonable indication that information obtained in the ITC's investigation will exceed the negligibility threshold are consistent with the SAA. Furthermore, the petitioner's arguments regarding the potential for imports to imminently exceed the negligibility threshold are consistent with the statutory criteria for “negligibility in threat analysis” under section 771(24)(A)(iv) of the Act, which provides that imports shall not be treated as negligible if there is a potential that subject imports from a country will imminently exceed the statutory requirements for negligibility.

²⁸ See Designations of Developing and Least-Developed Countries under the Countervailing Duty Law, 85 FR 7613, 7615-7616 (February 10, 2020).

²⁹ When calculated to the hundredth decimal point, imports from Sri Lanka account for 3.96 percent of the volume of total imports during the most recent 12-month period for which data are available. See Petitions at Volume I at 17-18 and Exhibit GEN-9.

³⁰ See Petitions at Volume I at 17-18 and Exhibit GEN-9; see also Statement of Administrative Action Accompanying the Uruguay Round Agreements Act, H.R. Doc. 103-316, vol. 1 (1994) (SAA) at 857.

³¹ See Petitions at Volume I at 19 and Exhibit GEN-8; see also section 771(24)(A)(iv) of the Act.

The petitioner contends that the industry's injured condition is illustrated by a significant and increasing volume of subject imports; reduced market share; decline in U.S. shipments and production and low level of capacity utilization; underselling and price depression and/or suppression; adverse impact on employment variables; lost sales and revenues; and declining profitability.³² We assessed the allegations and supporting evidence regarding material injury, threat of material injury, causation, and negligibility, and we have determined that these allegations are properly supported by adequate evidence, and meet the statutory requirements for initiation.³³

³² See Petitions at Volume I at 19-21, 25-41 and Exhibits GEN-1, GEN-3, GEN-8 and GEN-11 through GEN-20.

³³ See Country-Specific CVD Initiation Checklists at Attachment III, Analysis of Allegations and Evidence of Material Injury and Causation for the Antidumping and Countervailing Duty Petitions Covering Certain Steel Nails from India, the Sultanate of Oman, Sri Lanka, Thailand, and the Republic of Turkey (Attachment III).

Initiation of CVD Investigations

Based upon our examination of the Petitions on steel nails from India, Oman, Sri Lanka, Thailand, and Turkey, including supplemental information provided by the petitioner, we find that the Petitions meet the requirements of section 702 of the Act. Therefore, we are initiating CVD investigations to determine whether imports of steel nails from India, Oman, Sri Lanka, Thailand, and Turkey benefit from countervailable subsidies conferred by the Governments. In accordance with section 703(b)(1) of the Act and 19 CFR 351.205(b)(1), unless postponed, we will make our preliminary determinations no later than 65 days after the publication date of these initiations.

India

Based on our review of the Petition on Indian steel nails, we find that there is sufficient information to initiate a CVD investigation on 32 alleged programs. For a full discussion of the basis for our decision to initiate on each program, see India CVD Initiation Checklist. A public version of the initiation checklist for this investigation is available on ACCESS.

Oman

Based on our review of the Petition on Omani steel nails, we find that there is sufficient information to initiate a CVD investigation on 11 alleged programs. For a full discussion of the basis for our decision to initiate on each program, see Oman CVD Initiation Checklist. A public version of the initiation checklist for this investigation is available on ACCESS.

Sri Lanka

Based on our review of the Petition on Sri Lankan steel nails, we find that there is sufficient information to initiate a CVD investigation on 11 alleged programs. For a full discussion of the basis for our decision to initiate on each program, see Sri Lanka CVD Initiation Checklist. A public version of the initiation checklist for this investigation is available on ACCESS.

Thailand

Based on our review of the Petition on Thai steel nails, we find that there is sufficient information to initiate a CVD investigation on 13 alleged programs. For a full discussion of the basis for our decision to initiate on each program, see Thailand CVD Initiation Checklist. A public version of the initiation checklist for this investigation is available on ACCESS.

Turkey

Based on our review of the Petition on Turkish steel nails, we find that there is sufficient information to initiate a CVD investigation on 26 alleged programs. For a full discussion of the basis for our decision to initiate on each program, see Turkey CVD Initiation Checklist. A public version of the initiation checklist for this investigation is available on ACCESS.

Respondent Selection

The petitioner named 11 companies in India; four in Oman; five in Sri Lanka; five in Thailand; and six in Turkey as producers/exporters of steel nails.³⁴ Commerce intends to follow its standard practice in CVD investigations and calculate company-specific subsidy rates in these investigations.

³⁴ See Petitions at Volume I at Exhibit GEN-6.

In the event that Commerce determines that the number of companies in India, Oman, Sri Lanka, Thailand, or Turkey is large and it cannot individually examine each company based upon Commerce's resources, where appropriate, Commerce intends to select respondents based on U.S. Customs and Border Protection (CBP) data for U.S. imports of steel nails from India, Oman, Sri Lanka, Thailand, and Turkey during the POI under the appropriate Harmonized Tariff Schedule of the United States subheadings listed in the “Scope of the Investigations,” in the appendix.

From January 11 through 13, 2022, Commerce released CBP data for U.S. imports of steel nails from India, Oman, Sri Lanka, Turkey, and Thailand under administrative protective order (APO) to all parties with access to information protected by APO and indicated that interested parties wishing to comment regarding the CBP data and respondent selection must do so within three business days of the publication date of the notice of initiation of these CVD investigations.³⁵ Commerce will not accept rebuttal comments regarding the CBP data or respondent selection. Interested parties must submit applications for disclosure under APO in accordance with 19 CFR 351.305(b). Instructions for filing such applications may be found on the Commerce's website at http://enforcement.trade.gov/apo.

³⁵ See Memoranda, “Countervailing Duty Petition on Certain Steel Nails from the Republic of Turkey: Release of Customs Data from U.S. Customs and Border Protection,” dated January 11, 2022; “Countervailing Duty Petition on Certain Steel Nails from India: Release of Customs Data from U.S. Customs and Border Protection,” dated January 13, 2022; “Countervailing Duty Petition on Certain Steel Nails from the Sultanate of Oman: Release of Customs Data from U.S. Customs and Border Protection,” dated January 13, 2022; “Countervailing Duty Petition on Certain Steel Nails from Sri Lanka: Release of Customs Data from U.S. Customs and Border Protection,” dated January 13, 2022; and “Petition for the Imposition of Countervailing Duties on Imports of Certain Steel Nails from Thailand: Release of U.S. Customs and Border Protection Data,” dated January 13, 2022.

Comments on CBP data and respondent selection must be filed electronically using ACCESS. An electronically-filed document must be received successfully, in its entirety, by ACCESS no later than 5:00 p.m. ET on the specified deadline.

Distribution of Copies of the Petitions

In accordance with section 702(b)(4)(A) of the Act and 19 CFR 351.202(f), a copy of the public version of the Petitions has been provided to the Governments via ACCESS. To the extent practicable, Commerce will attempt to provide a copy of the public version of the Petitions to each exporter named in the Petitions, as provided under 19 CFR 351.203(c)(2).

ITC Notification

Commerce will notify the ITC of our initiation, as required by section 702(d) of the Act.

Preliminary Determination by the ITC

The ITC will preliminarily determine, within 45 days after the date on which the Petitions were filed, whether there is a reasonable indication that imports of steel nails from India, Oman, Sri Lanka, Thailand, and/or Turkey are materially injuring or threatening material injury to a U.S. industry.³⁶ A negative ITC determination for any country will result in the investigation being terminated with respect to that country.³⁷ Otherwise, the investigations will proceed according to statutory and regulatory time limits.

³⁶ See section 733(a) of the Act.

³⁷ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Any party, when submitting factual information, must specify under which subsection of 19 CFR 351.102(b)(21) the information is being submitted and, if the information is submitted to rebut, clarify, or correct factual information already on the record, provide an explanation identifying the information already on the record that the factual information seeks to rebut, clarify, or correct.³⁸ Time limits for the submission of factual information are addressed in 19 CFR 351.301, which provides specific time limits based on the type of factual information being submitted. Interested parties should review the regulations prior to submitting factual information in these investigations.

³⁸ See 19 CFR 351.301(b).

Extensions of Time Limits

Parties may request an extension of time limits before the expiration of a time limit established under 19 CFR 351.301 or as otherwise specified by the Secretary. In general, an extension request will be considered untimely if it is filed after the expiration of the time limit established under 19 CFR 351.301. For submissions that are due from multiple parties simultaneously, an extension request will be considered untimely if it is filed after 10:00 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, stand-alone submission; under limited circumstances Commerce will grant untimely-filed requests for the extension of time limits. Parties should review Commerce's regulations concerning the extension of time limits prior to submitting extension requests in these investigations.³⁹

³⁹ See 19 CFR 351.301; see also Extension of Time Limits; Final Rule, 78 FR 57790 (September 20, 2013), available at http://www.gpo.gov/fdsys/pkg/FR-2013-09-20/html/2013-22853.htm.

Certification Requirements

Any party submitting factual information in an AD or CVD proceeding must certify to the accuracy and completeness of that information.⁴⁰ Parties must use the certification formats provided in 19 CFR 351.303(g).⁴¹ Commerce intends to reject factual submissions if the submitting party does not comply with the applicable certification requirements.

⁴⁰ See section 782(b) of the Act.

⁴¹ See Certification of Factual Information to Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. Instructions for filing such applications may be found on the Commerce website at http://enforcement.trade.gov/apo. Parties wishing to participate in these investigations should ensure that they meet the requirements of 19 CFR 351.103(d) (e.g., by filing a letter of appearance). Note that Commerce has temporarily modified certain of its requirements for serving documents containing business proprietary information until further notice.⁴²

⁴² See Temporary Rule Modifying AD/CVD Service Requirements Due to COVID-19; Extension of Effective Period, 85 FR 41363 (July 10, 2020).

This notice is issued and published pursuant to sections 702 and 777(i) of the Act and 19 CFR 351.203(c).

Dated: January 19, 2022.
Lisa W. Wang,
Assistant Secretary for Enforcement and Compliance.

Appendix

Scope of the Investigations

The merchandise covered by these investigations is certain steel nails having a nominal shaft or shank length not exceeding 12 inches. Certain steel nails include, but are not limited to, nails made from round wire and nails that are cut from flat-rolled steel or long-rolled flat steel bars. Certain steel nails may be of one piece construction or constructed of two or more pieces. Examples of nails constructed of two or more pieces include, but are not limited to, anchors comprised of an anchor body made of zinc or nylon and a steel pin or a steel nail; crimp drive anchors; split-drive anchors, and strike pin anchors. Also included in the scope are anchors of one piece construction.

Certain steel nails may be produced from any type of steel, and may have any type of surface finish, head type, shank, point type and shaft diameter. Finishes include, but are not limited to, coating in vinyl, zinc (galvanized, including but not limited to electroplating or hot dipping one or more times), phosphate, cement, and paint. Certain steel nails may have one or more surface finishes. Head styles include, but are not limited to, flat, projection, cupped, oval, brad, headless, double, countersunk, and sinker. Shank or shaft styles include, but are not limited to, smooth, barbed, screw threaded, ring shank and fluted.

Screw-threaded nails subject to this proceeding are driven using direct force and not by turning the nail using a tool that engages with the head. Point styles include, but are not limited to, diamond, needle, chisel and blunt or no point. Certain steel nails may be sold in bulk, or they may be collated in any manner using any material.

Excluded from the scope are certain steel nails packaged in combination with one or more non-subject articles, if the total number of nails of all types, in aggregate regardless of size, is less than 25. If packaged in combination with one or more non-subject articles, certain steel nails remain subject merchandise if the total number of nails of all types, in aggregate regardless of size, is equal to or greater than 25, unless otherwise excluded based on the other exclusions below.

Also excluded from the scope are certain steel nails with a nominal shaft or shank length of one inch or less that are a component of an unassembled article, where the total number of nails is sixty (60) or less, and the imported unassembled article falls into one of the following eight groupings: (1) Builders' joinery and carpentry of wood that are classifiable as windows, French-windows and their frames; (2) builders' joinery and carpentry of wood that are classifiable as doors and their frames and thresholds; (3) swivel seats with variable height adjustment; (4) seats that are convertible into beds (with the exception of those classifiable as garden seats or camping equipment); (5) seats of cane, osier, bamboo or similar materials; (6) other seats with wooden frames (with the exception of seats of a kind used for aircraft or motor vehicles); (7) furniture (other than seats) of wood (with the exception of (i) medical, surgical, dental or veterinary furniture; and (ii) barbers' chairs and similar chairs, having rotating as well as both reclining and elevating movements); or (8) furniture (other than seats) of materials other than wood, metal, or plastics (e.g., furniture of cane, osier, bamboo or similar materials). The aforementioned imported unassembled articles are currently classified under the following Harmonized Tariff Schedule of the United States (HTSUS) subheadings: 4418.10, 4418.20, 9401.30, 9401.40, 9401.51, 9401.59, 9401.61, 9401.69, 9403.30, 9403.40, 9403.50, 9403.60, 9403.81 or 9403.89.

Also excluded from the scope of these investigations are nails suitable for use in powder-actuated hand tools, whether or not threaded, which are currently classified under HTSUS subheadings 7317.00.2000 and 7317.00.3000.

Also excluded from the scope of these investigations are nails suitable for use in gas-actuated hand tools. These nails have a case hardness greater than or equal to 50 on the Rockwell Hardness C scale (HRC), a carbon content greater than or equal to 0.5 percent, a round head, a secondary reduced-diameter raised head section, a centered shank, and a smooth symmetrical point.

Also excluded from the scope of these investigations are corrugated nails. A corrugated nail is made up of a small strip of corrugated steel with sharp points on one side.

Also excluded from the scope of these investigations are thumb tacks, which are currently classified under HTSUS subheading 7317.00.1000.

Also excluded from the scope are decorative or upholstery tacks.

Certain steel nails subject to these investigations are currently classified under HTSUS subheadings 7317.00.5501, 7317.00.5502, 7317.00.5503, 7317.00.5505, 7317.00.5507, 7317.00.5508, 7317.00.5511, 7317.00.5518, 7317.00.5519, 7317.00.5520, 7317.00.5530, 7317.00.5540, 7317.00.5550, 7317.00.5560, 7317.00.5570, 7317.00.5580, 7317.00.5590, 7317.00.6530, 7317.00.6560 and 7317.00.7500. Certain steel nails subject to these investigations also may be classified under HTSUS subheadings 7318.15.5060, 7318.15.5090, 7907.00.6000, 8206.00.0000 or other HTSUS subheadings. While the HTSUS subheadings are provided for convenience and customs purposes, the written description of the scope of these investigations is dispositive.

[FR Doc. 2022-01509 Filed 1-25-22; 8:45 am]

BILLING CODE 3510-DS-P